DEPARTMENT OF COMMERCE

International Trade Administration

Idaho National Laboratory, et al.; Notice of Consolidated Decision on Applications for Duty-Free Entry of Electron Microscope

This is a decision consolidated pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Avenue NW., Washington, DC.

Docket Number: 15-005. Applicant: Idaho National Laboratory, Idaho Falls, ID 83415. Instrument: Electron Microscope. Manufacturer: FEI, Czech Republic. Intended Use: See notice at 80 FR 26896, May 11, 2015.

Docket Number: 15-010. Applicant: Howard Hughes Medical Institute, Chevy Chase, MD 20815. Instrument: Electron Microscope. Manufacturer: JEOL Ltd., Japan. Intended Use: See notice at 80 FR 26896, May 11, 2015.

Docket Number: 15-011. Applicant: University of South Alabama, Mobile, AL 36688. Instrument: Electron Microscope. Manufacturer: FEI Czech Republic s.r.o., Czech Republic. Intended Use: See notice at 80 FR 26896, May 11, 2015.

Docket Number: 15-012. Applicant: Albert Einstein College of Medicine of Yeshiva University, Bronx, NY 10461. Instrument: Electron Microscope. Manufacturer: JEOL Ltd., Japan. Intended Use: See notice at 80 FR 26896, May 11, 2015.

Docket Number: 15-014. Applicant: Johns Hopkins University, Baltimore, MD 21218. Instrument: Electron Microscope. Manufacturer: FEI Company, the Netherlands. Intended Use: See notice at 80 FR 26896, May 11, 2015.

Docket Number: 15-016. Applicant: Rutgers University, New Brunswick, NJ 08901. Instrument: LN Microscope. Manufacturer: Luigs Neumann, Germany. Intended Use: See notice at 80 FR 26896, May 1, 2015.

Docket Number: 15-017. Applicant: City University of New York, New York, NY 10017. Instrument: Electron Microscope.

Manufacturer: FEI Company, Japan. Intended Use: See notice at 80 FR 26896, May 11, 2015.

Docket Number: 15-018. Applicant: City University of New York, New York, NY 10017. Instrument: Electron Microscope. Manufacturer: FEI Company, Japan. Intended Use: See notice at 80 FR 26896, May 11, 2015.

Comments: None received. Decision: Approved. No instrument of equivalent scientific value to the foreign instrument, for such purposes as these instruments are intended to be used, was being manufactured in the United States at the time the instruments were ordered. Reasons: Each foreign instrument is an electron microscope and is intended for research or scientific educational uses requiring an electron microscope. We know of no electron microscope, or any other instrument suited to these purposes, which was being manufactured in the United States at the time of order of each instrument.

Dated: July 20, 2015.
Gregory W. Campbell,
Director, Subsidies Enforcement Office, Enforcement and Compliance.

[FR Doc. 2015-18212 Filed 7-23-15; 8:45 am]

BILLING CODE 3510-DS-P